DEPARTMENT OF HEALTH AND HUMAN SERVICES

42 CFR Part 85a

[Docket No. CDC-2014-0001; NIOSH-271]

RIN 0920-AA51

Occupational Safety and Health Investigations of Places of Employment

AGENCY: Centers for Disease Control and Prevention, HHS.

ACTION: Notice confirming effective date of direct final rule.

SUMMARY: The National Institute for Occupational Safety and Health (NIOSH) in the Centers for Disease Control and Prevention (CDC) within the Department of Health and Human Services (HHS) is publishing this notice to confirm the effective date of the direct final rule, published on January 16, 2014 (79 FR 2789).

DATES: The direct final rule published at 79 FR 2789, January 16, 2014, will become effective on April 16, 2014.

FOR FURTHER INFORMATION CONTACT: Teresa Schnorr Ph.D., Director NIOSH Division of Surveillance, Hazard Evaluations and Field Studies (DSHEFS); 4676 Columbia Parkway, Cincinnati, OH 45226; 513-841-4428 (this is not a toll-free number).

SUPPLEMENTARY INFORMATION: On January 16, 2014, HHS published a direct final rule (DFR) to make minor technical amendments to the regulatory text in 42 CFR Part 85a (79 FR 2789). On the same date, HHS simultaneously published a companion notice of proposed rulemaking (NPRM) that proposed identical amendments. In the preambles to both documents, HHS indicated that if no significant adverse comments on the DFR were received by March 17, 2014, the agency would publish a document in the Federal Register withdrawing the NPRM and confirming the effective date of the DFR within 30 days of the conclusion of the comment period. HHS received one public comment that was not a significant adverse comment, but rather was in support of the companion NPRM. Because HHS did not receive any significant adverse comments to the NPRM within the specified comment period, we have published a notice to withdraw the NPRM [INSERT CITATION FOR NOTICE TO WITHDRAWAL NPRM]. Therefore, consistent with the DFR, the technical amendments to 42 CFR Part 85a will become effective on April 16, 2014.

Dated: April 3, 2014.
Kathleen Sebelius,
Secretary.

[FR Doc. 2014-07988 Filed 4-9-14; 8:45 am]

BILLING CODE 4163-18-P